DEPARTMENT OF ENERGY

Federal Energy Regulatory Commission

Combined Notice of Filings #1

Take notice that the Commission received the following electric corporate filings:

Docket Numbers: EC16-108-000.

Applicants: Tenaska Alabama II Partners, L.P.

Description: Tenaska Alabama II Partners, L.P. Application for Approval Under Section 203 of the Federal Power Act and Request for Expedited Action.

Filed Date: 4/27/16.

Accession Number: 20160427-5340.

Comments Due: 5 p.m. ET 5/18/16.

Take notice that the Commission received the following electric rate filings:

Docket Numbers: ER16-1051-001.

Applicants: Graphic Packaging International Inc.

Description: Tariff Amendment: Supplement to Application for Order Accepting Initial Market-Based Rate Tariff to be effective 3/1/2016.

Filed Date: 4/28/16.

Accession Number: 20160428-5085.

Comments Due: 5 p.m. ET 5/19/16.

Docket Numbers: ER16-1152-001.

Applicants: Jericho Rise Wind Farm LLC.

Description: Tariff Amendment: Revised Proposed MBR Tariff to be effective 5/14/2016.

Filed Date: 4/27/16.

Accession Number: 20160427-5244.

Comments Due: 5 p.m. ET 5/18/16.

Docket Numbers: ER16-1154-001.

Applicants: Parrey, LLC.

Description: Tariff Amendment: Supplement to App. for MBR Authorization in Response to Informal Staff Request to be effective 4/1/2016.

Filed Date: 4/27/16.

Accession Number: 20160427-5243.

Comments Due: 5 p.m. ET 5/18/16.

Docket Numbers: ER16-1509-000.

Applicants: New Wave Energy Corp.

Description: Baseline eTariff Filing: New Wave Energy Corporation to be effective 6/27/2016.

Filed Date: 4/27/16.

Accession Number: 20160427-5291.

Comments Due: 5 p.m. ET 5/18/16.

Docket Numbers: ER16-1510-000.

Applicants: PPL Electric Utilities Corporation, PJM Interconnection, L.L.C.

Description: Section 205(d) Rate Filing: PPL Electric submits revised Interconnection Agreement No. 746 to be effective 6/1/2016.

Filed Date: 4/28/16.

Accession Number: 20160428-5055.

Comments Due: 5 p.m. ET 5/19/16.

Docket Numbers: ER16-1511-000.

Applicants: PJM Interconnection, L.L.C.

Description: Section 205(d) Rate Filing: 1st Quarter 2016 Updates to OA and RAA Member Lists to be effective 3/31/2016.

Filed Date: 4/28/16.

Accession Number: 20160428-5200.

Comments Due: 5 p.m. ET 5/19/16.

Take notice that the Commission received the following PURPA 210(m)(3) filings:

Docket Numbers: QM16-3-000.

Applicants: Golden Spread Electric Cooperative, Inc.

Description: Application Pursuant to Section 292.310(A) for Authorization to Terminate Mandatory Purchase Obligation in ERCOT of Golden Spread Electric Cooperative, Inc.

Filed Date: 4/27/16.

Accession Number: 20160427-5337.

Comments Due: 5 p.m. ET 5/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2016.
Kimberly D. Bose,
Secretary.

[FR Doc. 2016-10902 Filed 5-9-16; 8:45 am]

BILLING CODE 6717-01-P